DEPARTMENT OF ENERGY

Western Area Power Administration

Draft Recommendations of Joint Outreach Team

AGENCY: Western Area Power Administration, DOE.

ACTION: Notice of Availability of draft recommendations of Western/DOE Joint Outreach Team.

SUMMARY: The Western Area Power Administration (Western), a power marketing administration (PMA) of the Department of Energy (DOE), is publishing the draft recommendations of the Western/DOE Joint Outreach Team (JOT) for review and comment by Western's customers, Tribes, stakeholders, and the public at large.

DATES: To ensure consideration, all comments should be received by Western at the address below on or before 4 p.m. MST January 22, 2013.

ADDRESSES: Send written comments to the Joint Outreach Team at: JOT@wapa.gov. Comments may also be delivered by certified mail or commercial mail to: Anita J. Decker, Acting Administrator, Western Area Power Administration, P.O. Box 281213, Lakewood, CO 80228-8213 or fax to (720) 962-7059.

FOR FURTHER INFORMATION CONTACT: For further information please contact Ronald E. Moulton, Transmission Services Manager, Western Area Power Administration, or Jennifer DeCesaro, Special Advisor, Renewable Energy and Transmission, Department of Energy, via email at JOT@wapa.gov. This notice is also available on Western's Web site at http://ww2.wapa.gov/sites/western/about/Pages/Definingfuture.aspx.

SUPPLEMENTARY INFORMATION: Western's mission is to market and deliver reliable, cost-based Federal hydroelectric power and related services to its customers. The Federal government, through four Power Marketing Administrations (PMAs), owns and operates approximately 33,730 miles of transmission lines, overlaying approximately 42 percent of the continental United States. Of that total, Western owns approximately 17,000 miles of high-voltage transmission lines with a footprint covering 15 states in the central and western U.S. To facilitate the transition of America's transmission system to a more resilient and flexible grid while reducing costs to consumers, Western and DOE formed the JOT. The team conducted a series of informational webinars, as well as stakeholder outreach workshops in five locations and listening sessions in six locations in Western's service territory with over 500 participants registering to provide input on the process and recommendations. The information gathered, combined with written stakeholder comments and the expertise of Western and DOE subject matter experts, informed the development of the draft recommendations that are now being published for public comment. Development of the final recommendations will be informed by comments received in response to this Notice.

The draft recommendations are available for review and comment at Western's Web site at http://ww2.wapa.gov/sites/western/about/Pages/Definingfuture.aspx. Western and DOE seek comment on the substance of the recommendations, whether any or all of the individual recommendations should be pursued and prioritization of the various actions that may be implemented or further pursued. Comments submitted in response to this notice should include the following information:

1. Name and general description of the entity submitting the comment.

2. Name, mailing address, telephone number, and email address of the entity's primary contact.

3. Identification of any specific recommendation the comment references.

Environmental Compliance

In compliance with the National Environmental Policy Act of 1969 (NEPA) (42 U.S.C. 4321, et seq.), the Council on Environmental Quality Regulations for Implementing NEPA (40 CFR parts 1500-1508) and the DOE NEPA Implementing Procedures and Guidelines (10 CFR part 1021), Western has determined that the publication of the draft recommendations and solicitation of comments is categorically excluded from further NEPA analysis. Future actions under this authority will undergo appropriate NEPA analysis.

Dated: November 13, 2012.
Anita J. Decker,
Acting Administrator, Western Area Power Administration.
Lauren Azar,
Senior Advisor to the Secretary, U.S. Department of Energy.

[FR Doc. 2012-28175 Filed 11-19-12; 8:45 am]

BILLING CODE 6450-01-P